ELECTION ASSISTANCE COMMISSION

Notice of Sunshine Act Meeting

AGENCY: United States Election Assistance Commission.

ACTION: Notice of public meeting for EAC Board of Advisors.

DATE AND TIME: Tuesday, May 23, 2006, 12 noon-5:30 p.m. and Wednesday, May 24, 2006, 8:30 a.m.-5 p.m.

PLACE: Hamilton Crowne Plaza, 1001 14th Street, NW. (14th and K Streets, NW.), Washington, DC 20005, (202) 682-0111.

PURPOSE: The U.S. Election Assistance Commission (EAC) Board of Advisors, as required by the Help America Vote Act of 2002, will meet and receive updates on EAC research projects and activities and discuss other relevant matters pertaining to the administration of Federal elections. The Board will receive an update regarding recent work conducted by the National Institute of Standards and Technology (NIST) on the voluntary voting system guidelines. The Board will elect officers and consider the appointment of a proxy committee and the appointment of a resolutions committee. The Board will receive reports of committees and discuss other administrative matters.

This meeting will be open to the public.

FOR FURTHER INFORMATION CONTACT: Bryan Whitener, Telephone: (202) 566-3100.

Thomas R. Wilkey,
Executive Director, U.S. Election Assistance Commission.

[FR Doc. 06-4293 Filed 5-3-06; 4:11 pm]

BILLING CODE 6820-KF-M